ENVIRONMENTAL PROTECTION AGENCY

[EPA-HQ-OPP-2013-0254; FRL-9397-7]

Issuance of an Experimental Use Permit

AGENCY: Environmental Protection Agency (EPA).

ACTION: Notice.

SUMMARY: EPA has granted an experimental use permit (EUP) to the pesticide applicant, Robert I. Rose, Ph.D., on behalf of James Mains, Ph.D., Mosquito Mate, Inc. An EUP permits use of a pesticide for experimental or research purposes only in accordance with the limitations in the permit.

FOR FURTHER INFORMATION CONTACT: Robert McNally, Biopesticides and Pollution Prevention Division (7511P), Office of Pesticide Programs, Environmental Protection Agency, 1200 Pennsylvania Ave. NW., Washington, DC 20460-0001; telephone number: (703) 305-7090; email address: BPPDFRNotices@epa.gov.

SUPPLEMENTARY INFORMATION:

I. General Information

A. Does this action apply to me?

This action is directed to the public in general. Although this action may be of particular interest to those persons who conduct or sponsor research on pesticides, the Agency has not attempted to describe all the specific entities that may be affected by this action.

B. How can I get copies of this document and other related information?

The docket for this action, identified by docket identification (ID) number EPA-HQ-OPP-2013-0254, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. EUP

EPA has issued the following EUP:

89668-EUP-1. Issuance. Robert I. Rose, Ph.D., on behalf of James Mains, Ph.D., Mosquito Mate, Inc., 1122 Oak Hill Drive, Lexington, KY 40505-3322. This EUP allows the weekly release for a 6-month period of 100,000 male Aedes albopictus mosquitoes containing a total of 38.4 mg Wolbachia pipientis ZAP strain over the entire EUP between July 29, 2013, and July 29, 2016. Releases will total over 4,118 acres in certain areas of California, Florida, Kentucky, and New York as described in the amended Section G in the docket. These releases are intended to suppress the population of the naturally occurring Aedes albopictus mosquitoes that, on mating, are expected to produce non-viable eggs. Mosquito population and eggs will be monitored during the EUP in annual reports to EPA. One comment urging approval of the research trials was submitted in response to the Notice of Receipt of the EUP application.

Authority: 7 U.S.C. 136c.

List of Subjects

Environmental protection, Experimental use permits.

Dated: September 5, 2013.
Lois Rossi,
Director, Registration Division, Office of Pesticide Programs.

[FR Doc. 2013-22223 Filed 9-11-13; 8:45 am]

BILLING CODE 6560-50-P